DEPARTMENT OF JUSTICE

Notice of Lodging of Consent Decree Under the Comprehensive Environmental Response, Compensation and Liability Act

Notice is hereby given that on March 18, 2011, a proposed Consent Decree in United States v. Exxon Mobil Corporation, et al., C.A. No. 4:11-cv-01037 (S.D. Tex.), was lodged with the United States District Court for the Southern District of Texas. The Consent Decree resolves the United States' claims for response costs against a number of defendants, pursuant to Section 107(a)(3) of the Comprehensive Environmental Response, Compensation, and Liability Act (“CERCLA”), 42 U.S.C. 9607(a)(3). The complaint filed simultaneously with the lodging of the Consent Decree names as defendants Exxon Mobil Corporation, Ashland, Inc., Eurecat U.S. Incorporated, Akzo Nobel, Inc., Flint Hills Resources, LP, Irving Oil Limited, ConocoPhillips Company, Texaco, Inc., and Chevron U.S.A., Inc. The claims against the defendants relate to response costs incurred by the United States in connection with response activities taken with respect to the Many Diversified Interests Site, at Operable Unit 1 (“OU-1”), located in Houston, Texas. Specifically, the United States' complaint alleges that the defendants sent spent catalyst that contained hazardous substances, including, but not limited to nickel and molybdenum, to OU-1 for disposal or treatment. Under the Consent Decree, the defendants will pay the United States $1,750,000 in reimbursement of a portion of the response costs incurred by the United States in connection with OU-1.

The Department of Justice will receive for a period of thirty (30) days from the date of this publication comments relating to the Consent Decree. Comments should be addressed to the Assistant Attorney General, Environment and Natural Resources Division, and either e-mailed to pubcomment-ees.enrd@usdoj.gov, or mailed to P.O. Box 7611, U.S. Department of Justice, Washington, DC 20044-7611, and should refer to United States v. Exxon Mobil Corporation, et al., DOJ Reference No. 90-11-3-09228.

The Consent Decree may be examined at the U.S. EPA Region 6, 1445 Ross Avenue, Suite 1200, Dallas, Texas 75202. During the public comment period, the Consent Decree may also be examined on the following Department of Justice Web site: http://www.usdoj.gov/enrd/Consent_ Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy of the Consent Decree from the Consent Decree Library, please enclose a check in the amount of $7.25 (25 cents per page production costs), payable to the U.S. Treasury or, if requesting by e-mail or fax, forward a check in that amount to the Consent Decree Library at the stated address.

Thomas A. Mariani, Jr.,
Assistant Chief, Environmental Enforcement Section, Environment and Natural Resources Division.

[FR Doc. 2011-7977 Filed 4-4-11; 8:45 am]

BILLING CODE 4410-15-P